DEPARTMENT OF HEALTH AND HUMAN SERVICES

Food and Drug Administration

[Docket No. 00F-0792]

The Procter and Gamble Co.; Filing of Food Additive Petition; Correction

AGENCY: Food and Drug Administration, HHS.

ACTION: Notice; correction.

SUMMARY: The Food and Drug Administration (FDA) is correcting a notice that appeared in the Federal Register of March 3, 2000 (65 FR 11585). The document announced that The Procter and Gamble Co. has filed a petition proposing that the food additive regulations regarding olestra be amended by removing the requirement for the label statement. A citation appeared incorrectly in the SUPPLEMENTARY INFORMATION section. This document corrects that error.

FOR FURTHER INFORMATION CONTACT: Mary D. Ditto, Center for Food Safety and Applied Nutrition (HFS-206), Food and Drug Administration, 200 C St. SW., Washington, DC 20204, 202-418-3102.

SUPPLEMENTARY INFORMATION: In FR Doc. 00-5096, appearing on page 11585 in the Federal Register of Friday, March 3, 2000, the following correction is made:

1. On page 11586, in the third column, under the SUPPLEMENTARY INFORMATION section, in the last paragraph, line 2, “CFR 25.32(i)” is corrected to read “CFR 25.30(k)”.

Dated: March 14, 2000.
Eugene C. Coleman,
Acting Director, Office of Premarket Approval, Center for Food Safety and Applied Nutrition.

[FR Doc. 00-7133 Filed 3-22-00; 8:45 am]

BILLING CODE 4160-01-F